DEPARTMENT OF TRANSPORTATION

Federal Aviation Administration

14 CFR Part 39

[Docket No. 2003-NM-199-AD; Amendment 39-13634; AD 2004-10-04]

RIN 2120-AA64

Airworthiness Directives; Bombardier Model CL-215-6B11 (CL215T Variant), and CL-215-6B11 (CL415 Variant) Series Airplanes

AGENCY: Federal Aviation Administration, DOT.

ACTION: Final rule.

SUMMARY: This amendment supersedes an existing airworthiness directive (AD), applicable to certain Bombardier Model CL-215-6B11 series airplanes, that currently requires inspections to detect cracking in the rear engine mount struts, and replacement of struts with new struts, if necessary; and the eventual replacement of all struts with new struts. This amendment requires adding repetitive detailed inspections to detect cracking in the rear engine mount struts and replacement of struts with new struts, if necessary. This amendment also expands the applicability of the existing AD and makes the replacement of all struts with new, machined struts an optional terminating action for the repetitive inspections. The actions specified by this AD are intended to prevent failure of the rear engine mount struts, which could subsequently result in reduced structural integrity of the nacelle and engine support structure. This action is intended to address the identified unsafe condition.

DATES: Effective June 21, 2004.

The incorporation by reference of certain publications listed in the regulations is approved by the Director of the Federal Register as of June 21, 2004.

The incorporation by reference of Canadair Alert Service Bulletin 215-A3040, dated September 2, 1992, as listed in the regulations, was approved previously by the Director of the Federal Register as of April 4, 1994 (59 FR 10272, March 4, 1994).

ADDRESSES: The service information referenced in this AD may be obtained from Bombardier, Inc., Canadair, Aerospace Group, P.O. Box 6087, Station Centre-ville, Montreal, Quebec H3C 3G9, Canada. This information may be examined at the Federal Aviation Administration (FAA), Transport Airplane Directorate, Rules Docket, 1601 Lind Avenue, SW., Renton, Washington; at the FAA, New York Aircraft Certification Office, 1600 Stewart Avenue, suite 410, Westbury, New York; or at the National Archives and Records Administration (NARA). For information on the availability of this material at NARA, call 202-741-6030, or go to: http://www.archives.gov/federal_register/code_of_federal_regulations/ibr_locations.html.

FOR FURTHER INFORMATION CONTACT: David Lawson, Aerospace Engineer, Airframe and Propulsion Branch, ANE-171, FAA, New York Aircraft Certification Office, 1600 Stewart Avenue, Westbury, New York 11590; telephone (516) 228-7327; fax (516) 794-5531.

SUPPLEMENTARY INFORMATION: A proposal to amend part 39 of the Federal Aviation Regulations (14 CFR part 39) by superseding AD 94-04-02, amendment 39-8820 (59 FR 10272, March 4, 1994), which is applicable to certain Bombardier Model CL-215-6B11 series airplanes, was published in the Federal Register on February 13, 2004 (69 FR 7179). The action proposed to continue to require inspections to detect cracking in the rear engine mount struts, and replacement of struts with new struts, if necessary; and the eventual replacement of all struts with new struts. The action also proposed to require adding repetitive detailed inspections to detect cracking in the rear engine mount struts and replacement of struts with new struts, if necessary. The action also proposed to expand the applicability of the existing AD and make the replacement of all struts with new, machined struts an optional terminating action for the repetitive inspections.

Comments

Interested persons have been afforded an opportunity to participate in the making of this amendment. No comments were submitted in response to the proposal or the FAA's determination of the cost to the public.

Explanation of Change to Cost Impact

The Cost Impact section of the proposed AD states that approximately 3 airplanes of U.S. registry would be affected by the proposed AD. Since the issuance of the proposed AD, we have determined that there are no airplanes currently on the U.S. Register that will be affected by this AD. We have revised the Cost Impact section of this final rule accordingly.

Conclusion

After careful review of the available data, the FAA has determined that air safety and the public interest require the adoption of the rule with the change previously described. The FAA has determined that this change will neither increase the economic burden on any operator nor increase the scope of the AD.

Cost Impact

Currently, there are no affected airplanes on the U.S. Register. However, if an affected airplane is imported and placed on the U.S. Register in the future, the costs stated below would apply.

The actions that are currently required by AD 94-04-02 would take about 10 work hours per airplane to accomplish, at an average labor rate of $65 per work hour. Required parts would be provided by the manufacturer at no cost to the operators. Based on these figures, we estimate that the cost impact of the currently required actions would be about $650 per airplane.

The new inspections that are required by this AD action would take about 3 work hours per airplane to accomplish, at an average labor rate of $65 per work hour. Based on these figures, the cost impact of these inspections would be about $195 per airplane, per inspection cycle.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-8820 (59 FR 10272, March 4, 1994), and by adding a new airworthiness directive (AD), amendment 39-13634, to read as follows:

2004-10-04 Bombardier, Inc. (Formerly Canadair): Amendment 39-13634. Docket 2003-NM-199-AD. Supersedes AD 94-04-02, Amendment 39-8820.

Applicability: Model CL-215-6B11 (CL215T Variant) series airplanes, serial numbers 1056, 1057, 1061, 1080, 1109, 1113 through 1122 inclusive, 1124, and 1125; and Model CL-215-6B11 (CL415 Variant) series airplanes, serial numbers 2001 through 2067 inclusive; certificated in any category.

Compliance: Required as indicated, unless accomplished previously.

To prevent failure of the rear engine mount struts, which could subsequently result in reduced structural integrity of the nacelle and engine support structure, accomplish the following:

Restatement of Requirements of AD 94-04-02

Inspection and Corrective Action

(a) For Model CL-215-6B11 series airplanes, serial numbers 1057, 1061, 1080, 1113 through 1115 inclusive, 1121, 1122, 1124, and 1125; turboprop versions only: Within 50 hours time-in-service after April 4, 1994 (the effective date of AD 94-04-02, amendment 39-8820), perform a visual inspection to detect cracking in the rear engine mount struts, part number (P/N) 87110016-003, in accordance with Canadair Alert Service Bulletin 215-A3040, dated September 2, 1992.

(1) If no cracking is detected, repeat the visual inspection thereafter at intervals not to exceed 50 hours time-in-service, until the requirements of paragraph (b) of this AD are accomplished.

(2) If any cracking is detected, prior to further flight, replace the engine rear mount strut with a new strut, P/N 87110016-009 or -011, in accordance with the service bulletin.

(b) For Model CL-215-6B11 series airplanes, serial numbers 1057, 1061, 1080, 1113 through 1115 inclusive, 1121, 1122, 1124, and 1125; turboprop versions only: Within 2 years after April 4, 1994, replace all engine rear mount struts with new struts, P/N 87110016-009 or -011, in accordance with Canadair Alert Service Bulletin 215-A3040, dated September 2, 1992. Such replacement constitutes terminating action for the inspections required by paragraph (a) of this AD.

(c) For Model CL-215-6B11 series airplanes, serial numbers 1057, 1061, 1080, 1113 through 1115 inclusive, 1121, 1122, 1124, and 1125; turboprop versions only: As of April 4, 1994, no person shall install a rear engine mount strut, P/N 87110016-003, on any airplane.

New Requirements of This AD

Inspection and Corrective Action

(d) For all airplanes: Within 50 flight hours after the effective date of this AD, perform a detailed inspection to detect cracking in the rear mount strut assemblies of the engines in accordance with Bombardier Alert Service Bulletin 215-A3111, Revision 2, dated January 23, 2003 (Model CL-215-6B11 (CL215T Variant) series airplanes); or Bombardier Alert Service Bulletin 215-A4287, Revision 2, dated January 23, 2003 (Model CL-215-6B11 (CL415 Variant) series airplanes); as applicable. Accomplishment of this detailed inspection constitutes terminating action for the requirements of paragraph (a) of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no cracking is detected, repeat the detailed inspection thereafter at intervals not to exceed 250 flight hours until the requirements of paragraph (e) of this AD are accomplished.

(2) If any crack is detected, before further flight, do the replacement in either paragraph (d)(2)(i) or (d)(2)(ii) of this AD in accordance with the applicable service bulletin.

(i) Replace the rear engine mount strut with a new, welded strut, P/N 87110016-009 or -011. Repeat the detailed inspection thereafter at intervals not to exceed 250 flight hours until the requirements of paragraph (e) of this AD are accomplished.

(ii) Replace the rear engine mount strut with a new, machined strut, P/N 87110047-001. Repeat the detailed inspection thereafter at intervals not to exceed 500 flight hours for the new, machined strut until the requirements of paragraph (e) of this AD are accomplished.

Optional Terminating Replacement

(e) Replace both rear engine mount struts with new, machined struts, P/N 87110047-001, in accordance with Bombardier Alert Service Bulletin 215-A3111, Revision 2, dated January 23, 2003 (Model CL-215-6B11 (CL215T Variant) series airplanes); or Bombardier Alert Service Bulletin 215-A4287, Revision 2, dated January 23, 2003 (Model CL-215-6B11 (CL415 Variant) series airplanes); as applicable. Replacement constitutes terminating action for the repetitive inspections required by this AD.

Parts Installation

(f) As of the effective date of this AD, no person shall install a rear engine mount strut, P/N 87110016-003, on any airplane.

Reporting Paragraph in Service Bulletins

(g) Although the service bulletins referenced in this AD specify to submit certain information to the manufacturer, this AD does not include such a requirement.

Alternative Methods of Compliance

(h) In accordance with 14 CFR 39.19, the Manager, New York Aircraft Certification Office (ACO), FAA, is authorized to approve alternative methods of compliance (AMOCs) for this AD.

Incorporation by Reference

(i) The actions shall be done in accordance with Canadair Alert Service Bulletin 215-A3040, dated September 2, 1992; Bombardier Alert Service Bulletin 215-A3111, Revision 2, dated January 23, 2003; and Bombardier Alert Service Bulletin 215-A4287, Revision 2, dated January 23, 2003; as applicable.

(1) The incorporation by reference of Bombardier Alert Service Bulletin 215-A3111, Revision 2, dated January 23, 2003; and Bombardier Alert Service Bulletin 215-A4287, Revision 2, dated January 23, 2003; is approved by the Director of the Federal Register, in accordance with 5 U.S.C. 552(a) and 1 CFR part 51.

(2) The incorporation by reference of Canadair Alert Service Bulletin 215-A3040, dated September 2, 1992, was approved previously by the Director of the Federal Register as of April 4, 1994 (59 FR 10272).

(3) Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; at the FAA, New York Aircraft Certification Office, 1600 Stewart Avenue, suite 410, Westbury, New York; or at the National Archives and Records Administration (NARA). For information on the availability of this material at NARA, call 202-741-6030, or go to: http://www.archives.gov/federal_register/code_of_federal_regulations/ibr_locations.html.

Note 2: The subject of this AD is addressed in Canadian airworthiness directive CF-2003-02, dated February 28, 2003.

Effective Date

(j) This amendment becomes effective on June 21, 2004.

Issued in Renton, Washington, on May 5, 2004.
Ali Bahrami,
Acting Manager, Transport Airplane Directorate, Aircraft Certification Service.

[FR Doc. 04-10739 Filed 5-14-04; 8:45 am]

BILLING CODE 4910-13-P